EXPORT-IMPORT BANK OF THE UNITED STATES

Economic Impact Policy of the Export-Import Bank of the United States

This notice is to inform the public that the Export-Import Bank of the United States has received an application to finance $12.5 million of equipment, and other goods and services on behalf of U.S. exporters to a buyer in South Africa. The U.S. exports will enable the South African company to increase phosphoric acid output by 330,000 tons per year, of which approximately 257,000 tons may be converted into granular phosphate fertilizer. This new production may be exported to Australia, Brazil, India, and to countries in Africa.

Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 02-4975 Filed 3-1-02; 8:45 am]

BILLING CODE 6690-01-M